DEPARTMENT OF JUSTICE

Notice of Lodging of Proposed Consent Decree Under the Clean Water Act

On December 23, 2020, the Department of Justice lodged a proposed Consent Decree with the United States District Court for the Central District of Illinois in the lawsuit entitled United States and Illinois v. Peoria City of Illinois and the Greater Peoria Sanitary and Sewage Disposal District, Civil Action No. 20-1444.

The United States and State of Illinois filed this lawsuit under the Clean Water Act. The complaint seeks civil penalties and injunctive relief for violations of the Act and related permits addressing the sewer system that serves the City of Peoria and is operated by the Defendants. Among other things, the consent decree requires Peoria to significantly reduce sewage overflows from the system by performing a series of improvement projects over 18 years that meet final criteria and satisfy interim milestones. The Greater Peoria Sanitary and Sewage Disposal District (“GPSD”) is required to perform additional system improvements that will result in reduced sewage overflows. In addition, Peoria will pay a penalty of $75,000 to the United States, $25,000 to the State, and perform a $200,000 State-only supplemental environmental project. The District will pay a $150,000 penalty, split evenly between the United States and the State.

The publication of this notice opens a period for public comment on the Consent Decree. Comments should be addressed to the Assistant Attorney General, Environment and Natural Resources Division, and should refer to United States and Illinois v. Peoria City of Illinois and the Greater Peoria Sanitary and Sewage Disposal District, D.J. Ref. No. 90-5-1-1-08724. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $29 (25 cents per page reproduction cost) payable to the United States Treasury. For a paper copy without the exhibits and signature pages, the cost is $22.25.

Henry S. Friedman,
Assistant Section Chief, Environmental Enforcement Section, Environment and Natural Resources Division.

[FR Doc. 2020-28923 Filed 12-30-20; 8:45 am]

BILLING CODE 4410-15-P